FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

American Cargocare, Inc. (NVO & OFF), 17100 Pioneer Blvd., Suite 255, Artesia, CA 90701, Officers: Nicholas L. Pullen, President (QI), Samakchai Tantisaree, Vice President, Application Type: New NVO & OFF License.

Dey Cargo Corporation dba Orient Grace Container Line (NVO & OFF), 510 Plaza Drive, Suite 1210, Atlanta, GA 30349, Officers: John J. Laird, Secretary (QI), Debra A. Watmore, President, Application Type: QI Change.

First Coast Cargo Group, Inc. (NVO & OFF), 5587 Commonwealth Avenue, Jacksonville, FL 32254, Officers: Dewey E. Painter, Chief Operations Officer (QI), Rosemary Myers, CEO, Application Type: New NVO & OFF License.

Full Hull Logistics, LLC (NVO & OFF), 17890 Cedarwood Drive, Riverside, CA 92803, Officers: Stanley J. Jozwiak, President (QI), Deborah Jozwiak, Vice President, Application Type: New NVO & OFF License.

Global Logistic Solution Center, LLC (NVO), 16520 Bake Parkway, Suite 150, Irvine, CA 92618, Officers: Mamdouh S. Mokhtar, Member (QI), Mohamed Hegazy, President, Application Type: New NVO License.

Graceworld Incorporation (NVO & OFF), 14023 Crenshaw Blvd., Suite 6, Hawthorne, CA 90250, Officers: Tracey Strine, CFO (QI), Ugochukwu O. Ene, President, Application Type: New NVO & OFF License.

ILE Global LLC (NVO & OFF), 181 S. Franklin Avenue, Suite 601, Valley Stream, NY 11581, Officers: Victor Pezzelato, Vice President (QI), Orit Horn, Managing Member, Application Type: Add NVO Service.

Intergroup Consolidators Inc. (NVO & OFF), 11119 NW 122nd Street, Medley, FL 33178, Officer: Raul E. Rodriguez, President (QI), Application Type: QI Change.

Morgan USA Logistics Inc (NVO), 16 Birchwood Park Drive, Syosset, NY 11791, Officer: Kit Hui, President (QI), Application Type: New NVO License.

Nema, Inc. (NVO & OFF), 2750 Breckinridge Blvd., Suite 100, Duluth, GA 30096, Officers: Christopher J. Reilly, Vice President (QI), Neal Baines, Chairman of the Board, Application Type: New NVO & OFF License.

Point Global Logistics, LLC (OFF), 157 Wilson Road, Fairview, NC 28730, Officers: Gustavo Kolmel, President (QI), Patricia Kolmel, Secretary, Application Type: New OFF License.

Seahorse Forwarding Ltd (NVO & OFF), One Euclid Road, Fort Lee, NJ 07024, Officers: Mary C. Sullivan, Vice President (QI), Chi W. Tang, President, Application Type: New NVO & OFF License.

Speedway USA, Inc. (NVO), 16210 S. Maple Avenue, Gardena, CA 90248, Officers: Han C. Kim, Secretary, (QI), Tae Y. Wi, President, Application Type: New NVO License.

Transcon Shipping Co., Inc. dba American Patriot Lines dba Transworld Shipping (NVO), 8616 La Tijera Blvd., Suite 401, Los Angeles, CA 90045, Officers: Terrence P. Lynch, President (QI), Dong H. Lee, Director, Application Type: Deleting Trade Names American Patriot Lines and Transworld Shipping.

WI Global Link Inc (OFF), 1940 NW 119th Street, Suite 801, Miami, FL 33167, Officers: Haydn Mitchell, Vice President (QI), Helen Mitchell, President, Application Type: New OFF License.

Dated: April 5, 2013.
By the Commission.
Karen V. Gregory,
Secretary.

[FR Doc. 2013-08388 Filed 4-9-13; 8:45 am]

BILLING CODE 6730-01-P